DEPARTMENT OF ENERGY

International Energy Agency Meeting

AGENCY: Department of Energy.

ACTION: Notice of meetings.

SUMMARY: The Industry Advisory Board (IAB) to the International Energy Agency (IEA) will meet on June 11 and 12, 2007, at the headquarters of the IEA in Paris, France, in connection with a meeting of the IEA's Standing Group on Emergency Questions (SEQ) and a Workshop on Emergency Data Reporting.

DATES: June 11-12, 2007.

ADDRESSES: 9, rue de la Fédération, Paris, France.

FOR FURTHER INFORMATION CONTACT: Diana D. Clark, Acting Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on June 11, 2007, beginning at 8:30 a.m. and on June 12. The purpose of this notice is to permit attendance by representatives of U.S. company members of the IAB at (1) a meeting of the IEA's Standing Group on Emergency Questions (SEQ) on June 11 beginning at 9:30 a.m., and (2) at a Workshop on Data Reporting organized by the SEQ as part of its Emergency Response Exercise 4 (ERA4) to be held at the headquarters of the IEA on June 12 beginning at 9:30 a.m. The IAB will hold a preparatory encounter among company representatives on June 11 from 8:30 to approximately 9 a.m. The agenda for this preparatory encounter is a review of the agenda for the SEQ meeting on June 11 and a review of the agenda for an SEQ session on ERE4 to be held on June 12.

The agenda of the SEQ meeting on June 11 is under the control of the SEQ. It is expected that the SEQ will adopt the following agenda:

1. Adoption of the Agenda.

2. Approval of the Summary Record of the 119th Meeting.

3. Status of Compliance with IEP Stockholding Commitments.

—Reports by Non-Complying Member Countries.

4. Program of Work.

—Report on the Governing Board Meeting at Ministerial Level.

—Plans for Committee Week in December.

5. The Current Oil Market Situation.

6. Emergency Response Review Program.

—Emergency Response Review of Poland.

7. Report on Current Activities of the Industry Advisory Board.

8. Follow-up to Katrina Collective Action.

9. Emergency Response Exercise 4.

10. Policy and Other Developments in Member Countries.

11. Highlights from the Gas Market Review.

12. Other Emergency Response Activities.

13. Activities with International Organizations and Non-Member Countries.

—Activities with the European Commission.

—Office of Global Dialogue Activities.

—In-Depth Review of Indonesia.

—ASEAN Workshop on Oil Stockholding.

—Summary of Recent Work on Russia.

14. Documents for Information.

—Emergency Reserve Situation of IEA Member Countries on April 1, 2007.

—Emergency Reserve Situation of Candidate Countries on April 1, 2007.

—Base Period Final Consumption: 2Q2006-1Q2007.

—Monthly Oil Statistics: March 2007.

—Update of Emergency Contacts List.

—Nominations for the Settlement Dispute Centre Panel of Arbitrators.

15. Other Business.

—Tentative Dates of Next SEQ Meetings.

—December 3-4: Joint SEQ/SOM Session and SEQ.

—March 17-20, 2008.

—June 24-26, 2008.

The agenda of the Workshop on June 12 is under the control of the SEQ. It is expected that the SEQ will adopt the following agenda:

1. Opening of the Meeting.

2. Historical Overview of Emergency Data Reporting.

3. Results of the Emergency Data Reporting Survey.

4. What Can Be Done To Improve the Situation?

5. Round Table Discussion.

6. What Are the Next Steps?

7. Closing.

As provided in section 252(c)(1)(A)(ii) of the Energy Policy and Conservation Act (42 U.S.C. 6272(c)(1)(A)(ii)), the meetings of the IAB are open to representatives of members of the IAB and their counsel; representatives of members of the IEA's Standing Group on Emergency Questions; representatives of the Departments of Energy, Justice, and State, the Federal Trade Commission, the General Accounting Office, Committees of Congress, the IEA, and the European Commission; and invitees of the IAB, the SEQ, or the IEA.

Issued in Washington, DC, May 24, 2007.
Diana D. Clark,
Acting Assistant General Counsel for International and National Security Programs.

[FR Doc. E7-10517 Filed 5-30-07; 8:45 am]

BILLING CODE 6450-01-P